DEPARTMENT OF ENERGY

Federal Energy Regulatory Commission

Combined Notice of Filings #1

September 27, 2010.

Take notice that the Commission received the following electric rate filings:

Docket Numbers: ER10-2710-002.

Applicants: PJM Interconnection, L.L.C.

Description: PJM Interconnection, L.L.C. submits tariff filing per 35: 20100927—Dominion Virginia H-16 Errata Filing—Pincus to be effective 9/17/2010.

Filed Date: 09/27/2010.

Accession Number: 20100927-5184.

Comment Date: 5 p.m. Eastern Time on Monday, October 18, 2010.

Docket Numbers: ER10-2962-000.

Applicants: Sterling Power Partners, L.P.

Description: Sterling Power Partners, L.P. submits tariff filing per 35.12: Sterling Power Partners Baseline Filing to be effective 9/24/2010.

Filed Date: 09/24/2010.

Accession Number: 20100924-5115.

Comment Date: 5 p.m. Eastern Time on Friday, October 15, 2010.

Docket Numbers: ER10-2963-000.

Applicants: Fore River Development, LLC.

Description: Fore River Development, LLC submits tariff filing per 35.12: Market-Based Rate Tariff in Compliance with Order No. 714 to be effective 9/24/2010.

Filed Date: 09/24/2010.

Accession Number: 20100924-5116.

Comment Date: 5 p.m. Eastern Time on Friday, October 15, 2010.

Docket Numbers: ER10-2964-000.

Applicants: Selkirk Cogen Partners, L.P.

Description: Selkirk Cogen Partners, L.P. submits tariff filing per 35.12: Selkirk Cogen Partners, L.P. to be effective 9/24/2010.

Filed Date: 09/24/2010.

Accession Number: 20100924-5117.

Comment Date: 5 p.m. Eastern Time on Friday, October 15, 2010.

Docket Numbers: ER10-2965-000.

Applicants: Boston Generating, LLC.

Description: Boston Generating, LLC submits tariff filing per 35.12: Market-Based Rate Tariff in Compliance with Order No. 714 to be effective 9/24/2010.

Filed Date: 09/24/2010.

Accession Number: 20100924-5118.

Comment Date: 5 p.m. Eastern Time on Friday, October 15, 2010.

Docket Numbers: ER10-2966-000.

Applicants: Rumford Falls Hydro LLC.

Description: Rumford Falls Hydro LLC submits tariff filing per 35.12: Rumford Falls Hydro LLC Baseline Market-Based Rate Tariff to be effective 9/24/2010.

Filed Date: 09/24/2010.

Accession Number: 20100924-5120.

Comment Date: 5 p.m. Eastern Time on Friday, October 15, 2010.

Docket Numbers: ER10-2967-000.

Applicants: Seneca Power Partners, L.P.

Description: Seneca Power Partners, L.P. submits their Baseline Filing of FERC Electric Tariff, Ninth Revised Volumen No 1, to be effective 9/24/2010.

Filed Date: 09/24/2010.

Accession Number: 20100924-5123.

Comment Date: 5 p.m. Eastern Time on Friday, October 15, 2010.

Docket Numbers: ER10-2968-000.

Applicants: GenConn Energy LLC.

Description: GenConn Energy LLC submits tariff filing per 35.12: GenConn Energy FERC Electric Tariff to be effective 9/24/2010.

Filed Date: 09/24/2010.

Accession Number: 20100924-5130.

Comment Date: 5 p.m. Eastern Time on Friday, October 15, 2010.

Docket Numbers: ER10-2969-000.

Applicants: Oswego Harbor Power LLC.

Description: Oswego Harbor Power LLC submits tariff filing per 35.12: Oswego Harbor Power FERC Electric Tariff to be effective 9/24/2010.

Filed Date: 09/24/2010.

Accession Number: 20100924-5134.

Comment Date: 5 p.m. Eastern Time on Friday, October 15, 2010.

Docket Numbers: ER10-2970-000.

Applicants: Commerce Energy, Inc.

Description: Commerce Energy, Inc. submits tariff filing per 35.12: Baseline to be effective 9/24/2010.

Filed Date: 09/24/2010.

Accession Number: 20100924-5141.

Comment Date: 5 p.m. Eastern Time on Friday, October 15, 2010.

Docket Numbers: ER10-2971-000.

Applicants: PJM Interconnection, L.L.C.

Description: PJM Interconnection, L.L.C. submits tariff filing per 35.13(a)(2)(iii): 20100924—Pre-Filing 44 PHP Replacement Capacity Clarification (Flynn) to be effective 11/23/2010.

Filed Date: 09/24/2010.

Accession Number: 20100924-5144.

Comment Date: 5 p.m. Eastern Time on Friday, October 15, 2010.

Docket Numbers: ER10-2972-000.

Applicants: Midwest Independent Transmission System Operator, Inc.

Description: Midwest Independent Transmission System Operator, Inc. submits tariff filing per 35.13(a)(2)(iii): Amendment to ATC-LSP GIA to be effective 12/31/9998.

Filed Date: 09/24/2010.

Accession Number: 20100924-5146.

Comment Date: 5 p.m. Eastern Time on Friday, October 15, 2010.

Docket Numbers: ER10-2972-000.

Applicants: Midwest Independent Transmission System Operator, Inc.

Description: Midwest Independent Transmission System Operator, Inc. submits tariff filing per 35.13(a)(2)(iii): Amendment to ATC-LSP GIA to be effective 12/31/9998.

Filed Date: 09/24/2010.

Accession Number: 20100924-5147.

Comment Date: 5 p.m. Eastern Time on Friday, October 15, 2010.

Docket Numbers: ER10-2973-000.

Applicants: El Dorado Energy, LLC.

Description: El Dorado Energy, LLC submits tariff filing per 35.12: El Dorado Energy, LLC, FERC Electric Tariff No. 1 baseline filing to be effective 9/24/2010.

Filed Date: 09/24/2010.

Accession Number: 20100924-5152.

Comment Date: 5 p.m. Eastern Time on Friday, October 15, 2010.

Docket Numbers: ER10-2974-000.

Applicants: Just Energy (U.S.) Corp.

Description: Just Energy (U.S.) Corp. submits tariff filing per 35.12: Baseline to be effective 9/24/2010.

Filed Date: 09/24/2010.

Accession Number: 20100924-5158.

Comment Date: 5 p.m. Eastern Time on Friday, October 15, 2010.

Docket Numbers: ER10-2975-000.

Applicants: CSW ENERGY SERVICES, INC.

Description: CSW ENERGY SERVICES, INC. submits tariff filing per 35.12: 20100924—MBR CSW Energy Svcs Baseline to be effective 9/27/2010.

Filed Date: 09/24/2010.

Accession Number: 20100924-5162.

Comment Date: 5 p.m. Eastern Time on Friday, October 15, 2010.

Docket Numbers: ER10-2976-000.

Applicants: Tampa Electric Company.

Description: Tampa Electric Company submits tariff filing per 35: Compliance Filing—Sale or Assignment of Transmission Service to be effective 10/1/2010.

Filed Date: 09/24/2010.

Accession Number: 20100924-5169.

Comment Date: 5 p.m. Eastern Time on Friday, October 15, 2010.

Docket Numbers: ER10-2977-000.

Applicants: Mesquite Power, LLC.

Description: Mesquite Power, LLC submits tariff filing per 35.12: Mesquite Power, LLC, FERC Electric Tariff No. 1 MBR Tariff baseline filing to be effective 9/24/2010.

Filed Date: 09/24/2010.

Accession Number: 20100924-5172.

Comment Date: 5 p.m. Eastern Time on Friday, October 15, 2010.

Docket Numbers: ER10-2978-000.

Applicants: Pacific Gas and Electric Company.

Description: Pacific Gas and Electric Company submits tariff filing per 35.13(a)(2)(iii): Revisions to CAISO Interim Black Start Agreement Schedule 2 to be effective 9/27/2010.

Filed Date: 09/24/2010.

Accession Number: 20100924-5173.

Comment Date: 5 p.m. Eastern Time on Friday, October 15, 2010.

Docket Numbers: ER10-2979-000.

Applicants: California Power Holdings, LLC.

Description: California Power Holdings, LLC submits its baseline tariff, FERC Electric Tariff, Volume No 1, to be effective 9/24/2010.

Filed Date: 09/24/2010.

Accession Number: 20100924-5188.

Comment Date: 5 p.m. Eastern Time on Friday, October 15, 2010.

Docket Numbers: ER10-2980-000.

Applicants: Castleton Power, LLC.

Description: Castleton Power, LLC submits tariff filing per 35.12: Castleton Power FERC Electric Tariff to be effective 9/24/2010.

Filed Date: 09/24/2010.

Accession Number: 20100924-5191.

Comment Date: 5 p.m. Eastern Time on Friday, October 15, 2010.

Docket Numbers: ER10-2981-000.

Applicants: AEP Texas Central Company, Public Service Company of Oklahoma, Southwestern Electric Power Company, AEP Texas North Company.

Description: AEP Texas Central Company submits tariff filing per 35.12: 20100924 MBR CSW Oper Co Baseline to be effective 9/27/2010.

Filed Date: 09/24/2010.

Accession Number: 20100924-5193.

Comment Date: 5 p.m. Eastern Time on Friday, October 15, 2010.

Docket Numbers: ER10-2983-000.

Applicants: Castleton Energy Services, LLC.

Description: Castleton Energy Services, LLC submits its baseline tariff, FERC Electric Tariff, Volume No. 1, to be effective 9/24/2010.

Filed Date: 09/24/2010.

Accession Number: 20100924-5200.

Comment Date: 5 p.m. Eastern Time on Friday, October 15, 2010.

Docket Numbers: ER10-2984-000.

Applicants: Merrill Lynch Commodities, Inc.

Description: Merrill Lynch Commodities, Inc. submits tariff filing per 35.12: Market-based Rate to be effective 9/24/2010.

Filed Date: 09/24/2010.

Accession Number: 20100924-5204.

Comment Date: 5 p.m. Eastern Time on Friday, October 15, 2010.

Docket Numbers: ER10-2985-000.

Applicants: Champion Energy Marketing, LLC.

Description: Champion Energy Marketing, LLC submits tariff filing per 35.12: Baseline to be effective 9/24/2010.

Filed Date: 09/24/2010.

Accession Number: 20100924-5205.

Comment Date: 5 p.m. Eastern Time on Friday, October 15, 2010.

Docket Numbers: ER10-2986-000.

Applicants: PJM Interconnection, L.L.C.

Description: PJM Interconnection, L.L.C. submits tariff filing per 35.13(a)(2)(iii) 20100924—Pre-Filing 046 Excess Congestion Credit (Flynn) to be effective 9/17/2010.

Filed Date: 09/24/2010.

Accession Number: 20100924-5207.

Comment Date: 5 p.m. Eastern Time on Friday, October 15, 2010.

Docket Numbers: ER10-2987-000.

Applicants: Southern California Edison Company.

Description: Southern California Edison Company submits tariff filing per 35.13(a)(2)(iii): SGIA & Service Agmt for Wholesale Distrib Serv with Greenpower Williams LLC to be effective 9/28/2010.

Filed Date: 09/27/2010.

Accession Number: 20100927-5000.

Comment Date: 5 p.m. Eastern Time on Monday, October 18, 2010.

Docket Numbers: ER10-2988-000.

Applicants: Thompson River Power, LLC.

Description: Thompson River Power, LLC submits tariff filing per 35.12: Thompson River Power FERC Electric Tariff to be effective 9/24/2010.

Filed Date: 09/27/2010.

Accession Number: 20100927-5039.

Comment Date: 5 p.m. Eastern Time on Monday, October 18, 2010.

Docket Numbers: ER10-2989-000.

Applicants: Solios Power Trading LLC.

Description: Solios Power Trading LLC submits tariff filing per 35.12: Solios Power Trading LLC, FERC Electric Tariff Original Volume No. 1 to be effective 9/27/2010.

Filed Date: 09/27/2010.

Accession Number: 20100927-5040.

Comment Date: 5 p.m. Eastern Time on Monday, October 18, 2010.

Docket Numbers: ER10-2990-000.

Applicants: Potomac Power Resources, Inc.

Description: Potomac Power Resources, Inc. submits tariff filing per 35.12: Potomac Power Market Based Rate Tariff Baseline Filing to be effective 9/27/2010.

Filed Date: 09/27/2010.

Accession Number: 20100927-5042.

Comment Date: 5 p.m. Eastern Time on Monday, October 18, 2010.

Docket Numbers: ER10-2991-000.

Applicants: Solios Power Mid-Atlantic Trading, LLC.

Description: Solios Power Mid-Atlantic Trading, LLC submits tariff filing per 35.12: Solios Power Mid-Atlantic Trading LLC, FERC Elec Trf Orig Vol #1 to be effective 9/27/2010.

Filed Date: 09/27/2010.

Accession Number: 20100927-5043.

Comment Date: 5 p.m. Eastern Time on Monday, October 18, 2010.

Docket Numbers: ER10-2992-000.

Applicants: Pepco Energy Services, Inc.

Description: Pepco Energy Services, Inc. submits tariff filing per 35.12: Pepco Energy Services Market Based Rate Tariff Baseline Filing to be effective 9/27/2010.

Filed Date: 09/27/2010.

Accession Number: 20100927-5044.

Comment Date: 5 p.m. Eastern Time on Monday, October 18, 2010.

Docket Numbers: ER10-2993-000.

Applicants: Solios Power Midwest Trading LLC.

Description: Solios Power Midwest Trading LLC submits tariff filing per 35.12: Solios Power Midwest Trading LLC, FERC Electric Tariff, Original Vol. No. 1 to be effective 9/27/2010.

Filed Date: 09/27/2010.

Accession Number: 20100927-5045.

Comment Date: 5 p.m. Eastern Time on Monday, October 18, 2010.

Docket Numbers: ER10-2994-000.

Applicants: Iberdrola Renewables, Inc.

Description: Iberdrola Renewables, Inc. submits tariff filing per 35.12: Baseline Filing of Market-Based Rate Tariff to be effective 9/27/2010.

Filed Date: 09/27/2010.

Accession Number: 20100927-5046.

Comment Date: 5 p.m. Eastern Time on Monday, October 18, 2010.

Docket Numbers: ER10-2995-000.

Applicants: Juniper Canyon Wind Power LLC.

Description: Juniper Canyon Wind Power LLC submits tariff filing per 35.12: Baseline Filing of Market-Based Rate Tariff to be effective 9/27/2010.

Filed Date: 09/27/2010.

Accession Number: 20100927-5049.

Comment Date: 5 p.m. Eastern Time on Monday, October 18, 2010.

Docket Numbers: ER10-2996-000.

Applicants: Klamath Energy LLC.

Description: Klamath Energy LLC submits tariff filing per 35.12: Baseline Filing of Market-Based Rate Tariff to be effective 9/27/2010.

Filed Date: 09/27/2010.

Accession Number: 20100927-5053.

Comment Date: 5 p.m. Eastern Time on Monday, October 18, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-25093 Filed 10-5-10; 8:45 am]

BILLING CODE 6717-01-P